SECURITIES AND EXCHANGE COMMISSION

Proposed Collection; Comment Request

Upon Written Request, Copies Available From: Securities and Exchange Commission, Office of Filings and Information Services, Washington, DC 20549.

Extension: Form U-1; SEC File No. 270-128; OMB Control No. 3235-0125.

Notice is hereby given that pursuant to the Paperwork Reduction Act of 1995 (44 U.S.C. 3501 et seq.) the Securities and Exchange Commission (“Commission”) is soliciting comments on the collections of information summarized below. The Commission plans to submit these existing collections of information to the Office of Management and Budget (“OMB”) for extension and approval.

Under rule 20(c) of the Act, Form U-1 must be used by any person filing for amending an application or declaration under sections 6(b), 7, 9(c)(3), 10, 12(b), (c), (d), or (f) of the Act. The form must also be used for filings under any rule under other sections of the Act for which a form is not prescribed. The Commission estimates that the total annual reporting and recordkeeping burden is 24,753 (111 annual responses × 223 hours = 24,753 burden hours). This represents a decrease of 2,684 hours annually in the paperwork burden from the prior estimate, and this decrease was caused by a decrease in the number of annual responses. The Commission needs the information because rule 20(c) requires it. The Commission uses this information to determine the existence of detriment to the interests the Act was designed to protect. Compliance with the requirements to provide the information is mandatory. The information will not be kept confidential.

The estimate of average burden hours is made solely for the purposes of the Paperwork Reduction Act. The estimate is not derived from a comprehensive or even a representative survey or study of the costs of Commission rules and forms.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Kenneth A. Fogash, Acting Associate Executive Director/CIO, Office of Information Technology, Securities and Exchange Commission, 450 5th Street NW., Washington, DC 20549.

Dated: January 9, 2004.
Margaret H. McFarland,
Deputy Secretary.

[FR Doc. 04-1076 Filed 1-16-04; 8:45 am]

BILLING CODE 8010-01-P